DEPARTMENT OF HEALTH AND HUMAN SERVICES

Administration for Children and Families

Submission for OMB Review; Comment Request

Proposed Project:

Title: Feasibility Test for Design Phase of National Study of Child Care Supply and Demand.

OMB No.: New Collection.

Description: The Administration for Children and Families (ACF), U.S. Department of Health and Human Services (HHS), intends to request approval from the Office of Management and Budget to collect information as part of the Design Phase of the National Study of Child Care Supply and Demand. This effort will gather information that will be useful for evaluating the feasibility and improving the design of a national study of child care supply and demand.

The proposed collection will consist of: A random-digit dial survey of households with children under age 13 for participation in a questionnaire about the demand for child care; a random-digit dial survey of households with individuals providing care to children under age 13 in a residential setting; a telephone screening of after-school programs for eligibility in a survey of child care providers; a telephone survey of providers of care to children under age 13; an in-person survey of providers of care to children under age 13; and, an in-person survey of parents of children under age 13 who are in non-parental care arrangements.

These data collection efforts will be used to examine the functioning of draft survey instruments. The feasibility test procedures will help inform several decisions about proposed design of the national study including sampling methods, costs and advantages associated with alternative interviewing protocols and reactions to the proposed methods.

Respondents: General population households, home-based and center-based child care providers, and public schools serving children under age 13.

Annual Burden Estimates
Instrument | Annual number of respondents | Number of responses per respondent | Average burden hours per response | Estimated annual burden hours
Eligibility calls to Before/After School Programs | 150 | 1 | .2 | 30
Household screening calls | 1000 | 1 | 15 | 150
Telephone calls with households with children under age | 160 | 1 | 5 | 80
Telephone calls with providers of home-based care | 104 | 1 | .3 | 31.2
Telephone calls with center-based providers of before/after school care | 68 | 1 | .5 | 34
In-person interviews with parents of children in non-parental care | 50 | 1 | .4 | 20
In-person interviews with child-care provider staff | 50 | 1 | 4 | 20

Estimated Total Annual Burden Hours: 365.2.

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: December 29, 2008.
Steven M. Hanmer,
OPRE Reports Clearance Officer.

[FR Doc. E8-31306 Filed 1-5-09; 8:45 am]

BILLING CODE 4184-01-M